DEPARTMENT OF ENERGY

Federal Energy Regulatory Commission

[Docket No. EL14-1-000]

Pioneer Wind Park I, LLC; Notice of Petition for Declaratory Order

Take notice that on October 2, 2013, pursuant to section 207(a)(2) of the Federal Energy Regulatory Commission's (Commission) Rules of Practice and Procedure, 18 CFR 385.207(a)(2), Pioneer Wind Park I, LLC (Pioneer Wind) filed a petition for declaratory order requesting the Commission to issue an order finding that PacifiCorp's refusal to execute a Power Purchase Agreement with Pioneer Wind, unless Pioneer Wind agrees to allow PacifiCorp to curtail the Pioneer Wind Project ahead of other generators, as if it were a non-firm transmission customer, is inconsistent with: (1) PacifiCorp's mandatory purchase obligation under the Public Utility Regulatory Policies Act of 1978 (PURPA), as that obligation has been interpreted by the Commission in several recent orders; and (2) Pioneer Wind's entitlement to Network Resource Interconnection Service under its Standard Large Generator Interconnection Agreements (LGIA) with PacifiCorp, as well as the non-discrimination provisions of the LGIA.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 23, 2013.

Dated: October 3, 2013.
Kimberly D. Bose,
Secretary.

[FR Doc. 2013-24444 Filed 10-10-13; 8:45 am]

BILLING CODE 6717-01-P